DEPARTMENT OF ENERGY

Federal Energy Regulatory Commission

Combined Notice of Filings

Take notice that the Commission has received the following Natural Gas Pipeline Rate and Refund Report filings:

Docket Number: PR20-27-000.

Applicants: Atlanta Gas Light Company.

Description: Tariff filing per 284.123(b),(e)+(g): Update to Statement of Rates to be effective 1/1/2020.

Filed Date: 1/29/2020.

Accession Number: 202001295030.

Comments Due: 5 p.m. ET 2/19/2020.

284.123(g) Protests Due: 5 p.m. ET 3/30/2020.

Docket Number: PR20-28-000.

Applicants: Midcoast Pipelines (Oklahoma Transmission) L.L.C.

Description: Tariff filing per 284.123(e)+(g)/: Notice of Cancellation of Statement of Operating Conditions to be effective 2/13/2020.

Filed Date: 1/30/2020.

Accession Number: 202001305092.

Comments Due: 5 p.m. ET 2/20/2020.

284.123(g) Protests Due: 5 p.m. ET 3/30/2020.

Docket Number: PR20-29-000.

Applicants: Southern California Gas Company.

Description: Tariff filing per 284.123(b),(e)+(g): Offshore_Delivery_Service_Rate_Revision_January_2020 to be effective 1/1/2020.

Filed Date: 1/30/2020.

Accession Number: 202001305118.

Comments Due: 5 p.m. ET 2/20/2020.

284.123(g) Protests Due: 5 p.m. ET 3/30/2020.

Docket Number: PR20-30-000.

Applicants: Caprock Permian Natural Gas Transmission LLC.

Description: Tariff filing per 284.123(b),(e)+(g): CR Permian Natural Gas transmission LLC Revised SOC (Name Change) to be effective 12/23/2019.

Filed Date: 1/31/2020.

Accession Number: 202001315344.

Comments Due: 5 p.m. ET 2/21/2020.

284.123(g) Protests Due: 5 p.m. ET 3/31/2020.

Docket Number: PR20-2-003.

Applicants: Valley Crossing Pipeline, LLC.

Description: Tariff filing per 284.123(b),(e)+(g): Amended Petition for Rate Approval and Statement of Operating Conditions 2-3-20 to be effective 1/24/2020.

Filed Date: 2/3/2020.

Accession Number: 202002035036.

Comments Due: 5 p.m. ET 2/24/2020.

284.123(g) Protests Due: 5 p.m. ET 2/24/2020.

Docket Number: PR20-5-002.

Applicants: Midcoast Pipelines (North Texas) L.P.

Description: Tariff filing per 284.123(b),(e)+(g): Amended Statement of Operating Conditions; Change of Ownership to be effective 1/2/2020.

Filed Date: 2/3/2020.

Accession Number: 202002035160.

Comments Due: 5 p.m. ET 2/24/2020.

284.123(g) Protests Due: 5 p.m. ET 2/24/2020.

Docket Number: PR20-3-001.

Applicants: Gulf Coast Express Pipeline LLC.

Description: Tariff filing per 284.123(b),(e)/: Amendment to Petition for NGPA Section 311 Rate Approval (0.1.0) to be effective 9/25/2019.

Filed Date: 2/5/2020.

Accession Number: 202002055062.

Comments/Protests Due: 5 p.m. ET 2/19/2020.

Docket Number: PR20-32-000.

Applicants: Columbia Gas of Ohio, Inc.

Description: Tariff filing per 284.123(b),(e)/: COH SOC Change effective Feb 1 2020 to be effective 2/1/2020.

Filed Date: 1/31/2020.

Accession Number: 202001315401.

Comments/Protests Due: 5 p.m. ET 2/25/2020.

Docket Number: PR20-33-000.

Applicants: Gulf Coast Express Pipeline LLC.

Description: Tariff filing per 284.123(b),(e)+(g): Amendment to Petition for NGPA Section 311 Rate Approval (1.0.0) to be effective 3/1/2020.

Filed Date: 2/5/2020.

Accession Number: 202002055070.

Comments Due: 5 p.m. ET 2/26/2020.

284.123(g) Protests Due: 5 p.m. ET 2/26/2020.

Docket Numbers: RP20-491-000.

Applicants: Iroquois Gas Transmission System, L.P.

Description: § 4(d) Rate Filing: 020420 Negotiated Rates—Sequent Energy Management, L.P. R-3075-13 to be effective 4/1/2020.

Filed Date: 2/4/20.

Accession Number: 20200204-5002.

Comments Due: 5 p.m. ET 2/18/20.

Docket Numbers: RP20-492-000.

Applicants: Iroquois Gas Transmission System, L.P.

Description: § 4(d) Rate Filing: 020420 Negotiated Rates—Castleton Commodities Merchant Trading R-4010-06 to be effective 4/1/2020.

Filed Date: 2/4/20.

Accession Number: 20200204-5003.

Comments Due: 5 p.m. ET 2/18/20.

Docket Numbers: RP20-493-000.

Applicants: Iroquois Gas Transmission System, L.P.

Description: § 4(d) Rate Filing: 020420 Negotiated Rates—Castleton Commodities Merchant Trading R-4010-12 to be effective 4/1/2020.

Filed Date: 2/4/20,

Accession Number: 20200204-5004.

Comments Due: 5 p.m. ET 2/18/20.

Docket Numbers: RP20-494-000.

Applicants: Iroquois Gas Transmission System, L.P.

Description: § 4(d) Rate Filing: 020420 Negotiated Rates—Castleton Commodities Merchant Trading R-4010-14 to be effective 4/1/2020.

Filed Date: 2/4/20.

Accession Number: 20200204-5005.

Comments Due: 5 p.m. ET 2/18/20.

Docket Numbers: RP20-495-000.

Applicants: Iroquois Gas Transmission System, L.P.

Description: § 4(d) Rate Filing: 020420 Negotiated Rates—Castleton Commodities Merchant Trading R-4010-13 to be effective 4/1/2020.

Filed Date: 2/4/20.

Accession Number: 20200204-5006.

Comments Due: 5 p.m. ET 2/18/20.

Docket Numbers: RP20-496-000.

Applicants: Iroquois Gas Transmission System, L.P.

Description: § 4(d) Rate Filing: 020420 Negotiated Rates—Shell Energy North America (US), L.P. R-2170-14 to be effective 4/1/2020.

Filed Date: 2/4/20.

Accession Number: 20200204-5007.

Comments Due: 5 p.m. ET 2/18/20.

Docket Numbers: RP20-497-000.

Applicants: Northwest Pipeline LLC.

Description: § 4(d) Rate Filing: Non-Conforming Contract and Miscellaneous Filing to be effective 3/5/2020.

Filed Date: 2/4/20.

Accession Number: 20200204-5065.

Comments Due: 5 p.m. ET 2/18/20.

Docket Numbers: RP20-331-001.

Applicants: Great Lakes Gas Transmission Limited Partnership.

Description: Compliance filing Prepayments Compliance Filing to be effective 1/15/2020.

Filed Date: 2/5/20.

Accession Number: 20200205-5006.

Comments Due: 5 p.m. ET 2/18/20.

Docket Numbers: RP20-498-000.

Applicants: Gulf South Pipeline Company, LLC.

Description: § 4(d) Rate Filing: Amendment to Neg Rate Agmt (BP 46441) to be effective 2/4/2020.

Filed Date: 2/5/20.

Accession Number: 20200205-5005.

Comments Due: 5 p.m. ET 2/18/20.

Docket Numbers: RP20-499-000.

Applicants: Iroquois Gas Transmission System, L.P.

Description: § 4(d) Rate Filing: 020520 Negotiated Rates—Shell Energy North America (US), L.P. R-2170-17 to be effective 4/1/2020.

Filed Date: 2/5/20.

Accession Number: 20200205-5015.

Comments Due: 5 p.m. ET 2/18/20.

Docket Numbers: RP20-500-000.

Applicants: Iroquois Gas Transmission System, L.P.

Description: § 4(d) Rate Filing: 020520 Negotiated Rates—Shell Energy North America (US), L.P. R-2170-18 to be effective 4/1/2020.

Filed Date: 2/5/20.

Accession Number: 20200205-5016.

Comments Due: 5 p.m. ET 2/18/20.

Docket Numbers: RP20-501-000.

Applicants: Iroquois Gas Transmission System, L.P.

Description: § 4(d) Rate Filing: 020520 Negotiated Rates—Mercuria Energy America, LLC R-7540-20 to be effective 4/1/2020.

Filed Date: 2/5/20.

Accession Number: 20200205-5018.

Comments Due: 5 p.m. ET 2/18/20.

Docket Numbers: RP20-502-000.

Applicants: Iroquois Gas Transmission System, L.P.

Description: § 4(d) Rate Filing: 020520 Negotiated Rates—Mercuria Energy America, LLC R-7540-21 to be effective 4/1/2020.

Filed Date: 2/5/20.

Accession Number: 20200205-5019.

Comments Due: 5 p.m. ET 2/18/20.

Docket Numbers: RP20-503-000.

Applicants: Iroquois Gas Transmission System, L.P.

Description: § 4(d) Rate Filing: 020520 Negotiated Rates—Freepoint Commodities LLC R-7250-29 to be effective 4/1/2020.

Filed Date: 2/5/20.

Accession Number: 20200205-5020.

Comments Due: 5 p.m. ET 2/18/20.

Docket Numbers: RP20-504-000.

Applicants: Iroquois Gas Transmission System, L.P.

Description: § 4(d) Rate Filing: 020520 Negotiated Rates—Freepoint Commodities LLC R-7250-28 to be effective 4/1/2020.

Filed Date: 2/5/20.

Accession Number: 20200205-5022.

Comments Due: 5 p.m. ET 2/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2020.
Nathaniel J. Davis, Sr.,
Deputy Secretary.

[FR Doc. 2020-02815 Filed 2-11-20; 8:45 am]

BILLING CODE 6717-01-P